DEPARTMENT OF ENERGY

Federal Energy Regulatory Commission

Combined Notice of Filings

Take notice that the Commission has received the following Natural Gas Pipeline Rate and Refund Report filings:

Filings Instituting Proceedings

Docket Numbers: PR14-31-000

Applicants: MDU Resources Group, Inc.

Description: Tariff filing per 284.123(b)(1), : Baseline Statement of Operating Conditions to be effective 3/7/2014; TOFC: 1330

Filed Date: 3/7/14

Accession Number: 20140307-5103

Comments Due: 5 p.m. ET 3/28/14

284.123(g) Protests Due: 5 p.m. ET 5/6/14

Docket Numbers: RP14-620-000

Applicants: Tallgrass Interstate Gas Transmission, L

Description: Petition for Limited Waiver of Tariff Provisions of Tallgrass Interstate Gas Transmission, LLC.

Filed Date: 3/13/14

Accession Number: 20140313-5184

Comments Due: 5 p.m. ET 3/25/14

Docket Numbers: RP14-621-000

Applicants: Horizon Pipeline Company, L.L.C.

Description: Penalty Revenue Crediting Report of Horizon Pipeline Company, L.L.C.

Filed Date: 3/13/14

Accession Number: 20140313-5185

Comments Due: 5 p.m. ET 3/25/14

Docket Numbers: RP14-622-000

Applicants: Iroquois Gas Transmission System, L.P.

Description: 03/14/14 Negotiated Rates—JP Morgan Ventures Energy Corp (HUB) 6025-89 to be effective 3/13/2014

Filed Date: 3/14/14

Accession Number: 20140314-5042

Comments Due: 5 p.m. ET 3/26/14

Docket Numbers: RP14-623-000

Applicants: Transcontinental Gas Pipe Line Company,

Description: Transcontinental Gas Pipe Line Company, LLC submits a Petition for Limited Waiver of the application of the No-Conduit Rule

Filed Date: 3/14/14

Accession Number: 20140314-5079

Comments Due: 5 p.m. ET 3/26/14

Docket Numbers: RP14-624-000

Applicants: Columbia Gas Transmission, LLC

Description: Negotiated Rate & Non-Conforming Service Agreement—VEPCO to be effective 4/15/2014

Filed Date: 3/14/14

Accession Number: 20140314-5084

Comments Due: 5 p.m. ET 3/26/14

Docket Numbers: RP14-625-000

Applicants: Transcontinental Gas Pipe Line Company,

Description: Abandonment of Rate Schedule X-275 to be effective 11/1/2013

Filed Date: 3/14/14

Accession Number: 20140314-5106

Comments Due: 5 p.m. ET 3/26/14

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP13-459-000

Applicants: Trailblazer Pipeline Company LLC

Description: 2013 Penalty Revenue Crediting Report

Filed Date: 3/14/14

Accession Number: 20140314-5076

Comments Due: 5 p.m. ET 3/26/14

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2014.
Nathaniel J. Davis, Sr.,
Deputy Secretary.

[FR Doc. 2014-06417 Filed 3-24-14; 8:45 am]

BILLING CODE 6717-01-P